FEDERAL RETIREMENT THRIFT INVESTMENT BOARD

Sunshine Act Meeting

TIME AND DATE: 10 a.m. (EST), December 10, 2001.

PLACE: 4th Floor, Conference Room 4506, 1250 H Street, NW., Washington, DC.

STATUS; Open.

MATTERS TO BE CONSIDERED:

1. Approval of the minutes of the November 13, 2001, Board member meeting.

2. Thrift Savings Plan activity report by the Executive Director.

3. Review of KPMG LLP audit reports:

(a) Thrift Savings Plan Billing Process at the Untied States Department of Agriculture, National Finance Center.

(b) Thrift Savings Plan Annuity Operations at the Metropolitan Life Insurance Company.

CONTACT PERSON FOR MORE INFORMATION: Thomas J. Trabucco, Director, Office of External Affairs, (202) 942-1640.

Dated: November 27, 2001.
Elizabeth S. Woodruff,
Secretary to the Board, Federal Retirement Thrift Investment Board.

[FR Doc. 01-29822 Filed 11-29-01; 3:53 pm]

BILLING CODE 6760-01-M